DEPARTMENT OF COMMERCE

International Trade Administration

A-570-506

Porcelain-on-Steel Cooking Ware from the People's Republic of China: Final Results of Antidumping Duty Administrative Review

AGENCY: Import Administration, International Trade Administration, Department of Commerce.

SUMMARY: On September 8, 2008, the Department of Commerce (“Department”) published the preliminary results of its administrative review of the antidumping duty order on porcelain-on-steel cooking ware from the People's Republic of China (“PRC”), covering the period December 1, 2006, to November 30, 2007. See Porcelain-on-Steel Cooking Ware from the People's Republic of China: Notice of Preliminary Results of Antidumping Duty Administrative Review, 73 FR 52021 (September 8, 2008) (“Preliminary Results”). The Department received no comments on its Preliminary Results. Therefore, the final dumping margin for this review is unchanged from the Preliminary Results, and is listed in the “Final Results of the Review” section below.

EFFECTIVE DATE: December 10, 2008.

FOR FURTHER INFORMATION CONTACT: Toni Dach or Scot Fullerton, AD/CVD Operations, Import Administration, International Trade Administration, U.S. Department of Commerce, 14th Street and Constitution Avenue, NW, Washington, DC 20230; telephone: (202) 482-1655 or (202) 482-1386, respectively.

Background

In response to a request from Columbian Home Products, LLC and OXO International Ltd., an importer of the subject merchandise, the Department initiated an administrative review of producer Xiamen Songson Plastic Hardware Co., Ltd's (“Songson”) exports of porcelain-on-steel cooking ware from the PRC. See Initiation of Antidumping and Countervailing Duty Administrative Reviews and Request for Revocation in Part, 73 FR 4829 (January 28, 2008).

On January 31, 2008, the Department issued its sections A, C and D antidumping duty questionnaire to Songson. The section A response was due on February 21, 2008, and the sections C and D response, as well as U.S. sales and factors of production (“FOP”) reconciliations, were due on March 10, 2008. On February 19, 2008, Songson requested an extension, until March 6, 2008, to file its section A response, and until March 24, 2008, to submit its sections C and D responses. On February 20, 2008, the Department granted Songson's extension request. We received the company's response to section A via regular mail on March 6, 2008. On March 14, 2008, the Department rejected Songson's section A response, as it was not filed in accordance with the Department's regulations. We granted Songson a second opportunity to file a complete section A response, and Songson submitted its revised section A response on March 28, 2008. Songson did not submit its sections C and D responses, or the required sales and FOP reconciliations by the extended due date, or on any date thereafter.

Due to the numerous deficiencies in Songson's section A response, the Department concluded that the company had not satisfactorily demonstrated the absence of de jure or de facto control over the export activities of Songson by the PRC government. The Department preliminarily determined that Songson did not qualify for a separate rate and is part of the PRC-wide entity. See Preliminary Results, at 52022. Because Songson did not provide a complete section A response or a sections C and D response, the Department had no information with which to calculate an antidumping duty margin. Therefore, the Department found that facts available pursuant to sections 776(a)(2)(A) and (C) of the Tariff Act of 1930 (“Act”) was warranted for the PRC-wide entity, including Songson, as Songson had withheld the information requested by the Department and had significantly impeded the proceeding. See id. The Department also found that total adverse facts available was warranted for the PRC-wide entity, including Songson, because it failed to cooperate to the best of its ability pursuant to section 776(a)(2) and 776(b) of the Act in not providing the necessary information requested by the Department. Id. at 52023.

As noted above, on September 8, 2008, the Department published the Preliminary Results and we invited interested parties to comment. No interested party, including Songson, submitted any case brief or comment, nor requested any hearing on the Department's Preliminary Results. Therefore, for these final results, the Department made no change in the final dumping margin from the Preliminary Results.

Scope of Order

The merchandise covered by the order is porcelain-on-steel cooking ware from the PRC, including tea kettles, which do not have self-contained electric heating elements. All of the foregoing are constructed of steel and are enameled or glazed with vitreous glasses. The merchandise is currently classifiable under the Harmonized Tariff Schedule of the United States (“HTSUS”) item 7323.94.00. HTSUS item numbers are provided for convenience and customs purposes. The written description of the scope remains dispositive.

Final Results of the Review

The Department finds that the following margin exists for the following exporters under review for the period December 1, 2006, through November 30, 2007:

Porcelain-on-Steel Cooking Ware from the PRC
Manufacturer/Exporter | Weighted-Average Margin (Percent)
PRC-Wide Entity (which includes Xiamen Songson Plastic Hardware Co., Ltd.) | 66.65

Assessment of Antidumping Duties

The Department will determine, and U.S. Customs and Border Protection (“CBP”) shall assess, antidumping duties on all appropriate entries pursuant to section 751(a)(1)(B) of the Act, and 19 CFR 351.212(b). The Department intends to issue appropriate assessment instructions directly to CBP 15 days after the date of publication of the final results of this review.

Cash Deposit Requirements

The following cash-deposit requirements will be effective upon publication of the final results for shipments of the subject merchandise entered, or withdrawn from warehouse, for consumption on or after the publication date of the final results, as provided by section 751(a)(2)(C) of the Act: (1) for subject merchandise exported by the PRC-wide entity, including Songson, the cash-deposit rate will be equal to 66.65 percent; (2) for previously investigated or reviewed PRC and non-PRC exporters not listed above that have a separate rate, the cash deposit rate will continue to be the exporter-specific rate published for the most recent period; (3) for all other PRC exporters of subject merchandise which have not been found to be entitled to a separate rate, the cash-deposit rate will be the PRC-wide rate of 66.65 percent; (4) for all non-PRC exporters of subject merchandise which have not received their own rate, the cash-deposit rate will be the rate applicable to the PRC exporter that supplied that non-PRC exporter.

These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This administrative review and notice is in accordance with sections 751(a)(1) and 777(i)(1) of the Act.

Dated: December 3, 2008.
David M. Spooner,
Assistant Secretary for Import Administration.

[FR Doc. E8-29221 Filed 12-9-08; 8:45 am]

BILLING CODE 3510-DS-S